ENVIRONMENTAL PROTECTION AGENCY

40 CFR Part 52

[Region VII Tracking No 089-1089; FRL-6518-7]

Approval and Promulgation of Air Quality Implementation Plans; State of Iowa; Correction

AGENCY: Environmental Protection Agency (EPA).

ACTION: Direct final rule; correcting amendment.

SUMMARY: This document corrects an error in the amendatory instruction in a direct final rule pertaining to the Buffalo, Iowa, PM10 control plan regulation.

EFFECTIVE DATE: February 24, 2000.

FOR FURTHER INFORMATION CONTACT: Edward West at (913) 551-7330.

SUPPLEMENTARY INFORMATION: EPA published a document on March 18, 1999 (64 FR 13343), inadvertently omitting a revision to the nonregulatory table in paragraph (e). This document adds that revision.

Administrative Requirements

Under Executive Order 12866 (58 FR 51735, October 4, 1993), this action is not a “significant regulatory action” and is therefore not subject to review by the Office of Management and Budget. In addition, this action does not impose any enforceable duty or contain any unfunded mandate as described in the Unfunded Mandates Reform Act of 1995 (Public Law 104-4), or require prior consultation with state officials as specified by Executive Order 12875 (58 FR 58093, October 28, 1993), or involve special consideration of environmental justice related issues as required by Executive Order 12898 (59 FR 7629, February 16, 1994).

Because this corrective rulemaking action is not subject to notice-and-comment requirements under the Administrative Procedure Act or any other statute, it is not subject to the provisions of the Regulatory Flexibility Act (5 U.S.C. 601 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the United States Senate, the United States House of Representatives, and the Comptroller General of the United States prior to publication of the rule in the Federal Register. This amendment to the PM10 control plan for Buffalo, Iowa, is not a “major rule” as defined by 5 U.S.C. 804(2).

List of Subjects in 40 CFR Part 52

Environmental protection, Air pollution control, Carbon monoxide, Hydrocarbons, Incorporation by reference, Intergovernmental relations.

Dated: November 9, 1999.
Dennis Grams, P.E.,
Regional Administrator, Region VII.

Part 52 of chapter I, title 40, Code of Federal Regulations, is amended as follows:

PART 52—[AMENDED]

1. The authority citation for part 52 continues to read as follows:

Authority: 42 U.S.C. 7401 et seq.

Subpart Q—Iowa

2. Section 52.820 is amended by adding an entry at the end of the table in paragraph (e) as follows:

§ 52.820 Identification of plan.

* * * * *

(e) * * *

EPA-Approved Iowa Nonregulatory Provisions
Name of nonregulatory SIP provision | Applicable geographic or nonattainment area | State submittal date | EPA approval date | Explanation
* * * * * * *
PM10 control plan | Buffalo, Iowa | 10/1/98 | 03/18/99 64 FR 13346 |

[FR Doc. 00-4233 Filed 2-23-00; 8:45 am]

BILLING CODE 6560-50-P